Proclamation 9052 of October 31, 2013

National Entrepreneurship Month, 2013

By the President of the United States of America

A Proclamation

The entrepreneurial spirit has always been at the heart of our Nation's story. With inventions that changed American life and startups that lifted our economy as they grew, entrepreneurs helped make our country what it is today. During National Entrepreneurship Month, we celebrate America's innovators, support small businesses, and empower entrepreneurs to turn their visions into reality.

America is home to a long and storied line of immigrants who sought opportunity on our shores—from entrepreneurs of the industrial revolution to startup founders of the digital age. This June, the Senate passed a commonsense immigration reform bill that would provide startup visas for immigrant entrepreneurs; eliminate backlogs for employment-based visas; and remove visa caps for those with advanced degrees in science, technology, engineering, and mathematics. These principles are consistent with ensuring our country remains a land of opportunity while fostering economic growth and innovation.

For the benefit of our Nation, we must remove undue barriers that would prevent entrepreneurs from venturing out on their own. The Affordable Care Act provides opportunities for those who lack employer-based insurance to obtain quality affordable care. This gives aspiring small business owners and self-employed entrepreneurs the freedom to pursue their ideas and keep their families covered. This year, I signed an Executive Order making Government-held data more accessible to the public and to entrepreneurs as fuel for innovation and economic growth. Hundreds of companies and nonprofits are using this data to develop new products and services. They are creating jobs of the future in national priority industries such as health, energy, and education. We have also worked to support social entrepreneurship at home and around the world, and in January, my Administration organized the first-ever White House Tech Inclusion Summit—where experts launched initiatives to give more Americans the opportunity to learn vital technology skills.

We continue to build on programs that help entrepreneurs get ahead. Since taking office, I have signed 18 small business tax cuts into law, and, as part of the American Taxpayer Relief Act, I extended several tax incentives to help small businesses prosper. Under last year's Jumpstart Our Business Startups (JOBS) Act, the American people will soon be able to use regulated crowdfunding Web sites to invest in promising startups, social enterprises, and small businesses. The White House Startup America initiative remains dedicated to cutting red tape and accelerating innovation from the lab to the marketplace. Entrepreneurs across the country are receiving vital information about Federal Government services at www.Business.USA.gov and are competing to solve important national problems at www.Challenge.gov.

To promote entrepreneurship throughout the world, I have called on the international community to increase transparency and accountability while rooting out corruption, and in 2010, my Administration organized the first annual Global Entrepreneurship Summit. During this year's summit, the State Department announced its partnership to help double the impact of UP Global—an organization dedicated to providing entrepreneurs at home and abroad with the resources, skills, and connections to thrive. Finally, we will soon announce the inaugural members of the President's Committee on Global Entrepreneurship, a group of some of America's most successful entrepreneurs who will commit to mentoring the next generation.

Our Nation is strongest when we broaden entrepreneurial opportunity, when more of us can test our ideas in the global marketplace, and when the best innovations can rise to the top. We all have a role to play—from colleges and universities that cultivate hubs of innovation, to large companies that collaborate with small businesses, to foundations that support both social enterprises and high-impact startups seeking to solve the grand challenges of our time. As we observe this month and celebrate Global Entrepreneurship Week, let us come together and help aspiring entrepreneurs take a chance on themselves and their visions for a brighter future.

NOW, THEREFORE, I, BARACK OBAMA, President of the United States of America, by virtue of the authority vested in me by the Constitution and the laws of the United States, do hereby proclaim November 2013 as National Entrepreneurship Month. I call upon all Americans to commemorate this month with appropriate programs and activities, and to celebrate November 22, 2013, as National Entrepreneurs' Day.

IN WITNESS WHEREOF, I have hereunto set my hand this thirty-first day of October, in the year of our Lord two thousand thirteen, and of the Independence of the United States of America the two hundred and thirty-eighth.

[FR Doc. 2013-26674

Filed 11-4-13; 11:15 am]

Billing code 3295-F4